DEPARTMENT OF DEFENSE

Department of the Air Force

New Mexico Training Range Initiative, Cannon Air Force Base, NM

AGENCY: Department of the Air Force.

ACTION: Record of Decision.

SUMMARY: On February 13, 2007, the United States Air Force signed the ROD for the New Mexico Training Range Initiative, Cannon Air Force Base, New Mexico. The ROD states the Air Force decision to implement Alternative A (Preferred Alternative) that will expand the size, operational altitudes and usefulness of the Pecos Military Operations Area and Associated Air Traffic Controlled Assigned Airspace.

The decision was based on matters discussed in the Final Environmental Impact Statement (EIS), inputs from the public and regulatory agencies, and other relevant factors. The Final EIS was made available on October 20, 2006 in the Federal Register (Volume 71, Number 203, Pages 61967-61968) with a wait period ending November 20, 2006. The ROD documents only the decision of the Air Force with respect to the proposed Air Force actions analyzed in the Final EIS.

FOR FURTHER INFORMATION CONTACT: Sheryl K. Parker, Headquarters Air Combat Command, Integrated Planning Office, 129 Andrews St, Suite 102 Langley AFB VA 23655 or call (757) 764-9334.

Bao-Anh Trinh,
Air Force Federal Register Liaison Officer.

[FR Doc. E7-3467 Filed 2-27-07; 8:45 am]

BILLING CODE 5001-05-P